GENERAL SERVICES ADMINISTRATION

[FMR Bulletin 2004-B1]

Federal Management Regulation; Federal Property Profile Summary Report

AGENCY: General Services Administration.

ACTION: Notice.

SUMMARY: In furtherance of FMR Bulletin 2003-B2, this notice announces the release of the FY 2003 version of the Federal Real Property Profile (FRPP) Summary Report, which provides an overview of the United States Government's owned and leased real property as of September 30, 2003. The FRPP Summary Report for FY 2003 is now available and is an update of the FRPP Summary Report for FY 2002.

EFFECTIVE DATE: May 7, 2004.

FOR FURTHER INFORMATION CONTACT: For clarification of content, contact Stanley C. Langfeld, General Services Administration, Real Property Policy Division, (MPR), Washington, DC 20405; stanley.langfeld@gsa.gov, (202) 501-1737. Please cite FMR Bulletin 2004-B1.

SUPPLEMENTARY INFORMATION: The FRPP Summary Report is a summary of the Government's real property assets, as reported to the General Services Administration's (GSA's) Federal Real Property Profile Internet Application (FRPP-IA) reporting system. It provides an overview of Federal real property assets categorized in three major areas—buildings, land, and structures. The FRPP-IA reporting system is a redesign of the former Worldwide Inventory data collection and reporting system which was discontinued after FY 2001.

Dated: April 15, 2004.
G. Martin Wagner,
Associate Administrator, Office of Governmentwide Policy.

General Services Administration

[FMR Bulletin 2004-B1]

Real Property

To: Heads of Federal Agencies

Subject: Federal Real Property Profile Summary Report

1. What is the purpose of this bulletin? This bulletin announces the release of the Fiscal Year 2003 version of the Federal Real Property Profile (FRPP) Summary Report, which provides an overview of the United States Government's owned and leased real property as of September 30, 2003.

2. What is the background?

a. This annual publication is a summary report of the Federal Government's real property assets, as reported to the General Services Administration's (GSA's) Federal Real Property Profile Internet Application (FRPP-IA) reporting system. The report provides an overview of Federal real property assets categorized in three major areas—buildings, land, and structures. Descriptions of specific use classifications are located in the Appendix of the report.

b. The detailed information for this summary report is held in a password-protected Web-based database. This database allows agency representatives to update data on-line in real time, and to produce ad hoc reports. The FRPP-IA reporting system provides information regarding Federal real property holdings to stakeholders including OMB, the Congress, the Federal community, and the public. Its purpose is to assist Federal asset managers with their stewardship responsibilities by offering a real-time environment for on-line updates.

c. To ensure accuracy, GSA requested that agencies confirm their FY 2003 data summary figures prior to publication of the FRPP Summary Report. Most agencies provided data based on their real property holdings as of September 30 of each year. In a few instances, data provided in previous years has been used where updated information was unavailable. This is noted on the list of contributing agencies. The agency list and status of updates and confirmations is provided as part of the FRPP Summary Report.

3. How can we obtain a copy of the FRPP summary report? You will find the FY 2003 version of the FRPP Summary Report on the GSA Web site at http://www.gsa.gov/realpropertyprofile. There you will be able to read, print, or download this report. You can also obtain a copy from the Real Property Policy Division (MPR), General Services Administration, 1800 F Street, NW., Washington, DC 20405.

4. Who should we contact for further information regarding the FRPP? For further information, contact Stanley C. Langfeld, Director, Real Property Policy Division, Office of Governmentwide Policy, General Services Administration, by phone (202) 501-1737, or by e-mail at stanley.langfeld@gsa.gov.

[FR Doc. 04-10414 Filed 5-6-04; 8:45 am]

BILLING CODE 6820-RH-P